DEPARTMENT OF COMMERCE

Foreign-Trade Zones Board

[Order No. 2119]

Reorganization and Expansion of Foreign-Trade Zone 249 Under Alternative Site Framework, Pensacola, Florida

Pursuant to its authority under the Foreign-Trade Zones Act of June 18, 1934, as amended (19 U.S.C. 81a-l81u), the Foreign-Trade Zones Board (the Board) adopts the following Order:

Whereas, the Foreign-Trade Zones (FTZ) Act provides for “. . . the establishment . . . of foreign-trade zones in ports of entry of the United States, to expedite and encourage foreign commerce, and for other purposes,” and authorizes the Board to grant to qualified corporations the privilege of establishing foreign-trade zones in or adjacent to U.S. Customs and Border Protection ports of entry;

Whereas, the Board adopted the alternative site framework (ASF) (15 CFR Sec. 400.2(c)) as an option for the establishment or reorganization of zones;

Whereas, the Pensacola-Escambia County Promotion & Development Commission, grantee of Foreign-Trade Zone 249, submitted an application to the Board (FTZ Docket B-42-2021, docketed May 26, 2021) for authority to reorganize and expand under the ASF with a service area of Escambia, Okaloosa and Santa Rosa Counties, Florida, in and adjacent to the Pensacola U.S. Customs and Border Protection port of entry, and FTZ 249's existing Sites 1, 2, 3 and 5 would be categorized as magnet sites, and the grantee proposes three usage-driven sites (Sites 6, 7 and 8), and that Site 4 be removed from the zone;

Whereas, notice inviting public comment was given in the Federal Register (86 FR 29560, June 2, 2021) and the application has been processed pursuant to the FTZ Act and the Board's regulations; and,

Whereas, the Board adopts the findings and recommendations of the examiners' report, and finds that the requirements of the FTZ Act and the Board's regulations are satisfied;

Now, therefore, the Board hereby orders:

The application to reorganize and expand FTZ 249 under the ASF is approved, subject to the FTZ Act and the Board's regulations, including Section 400.13, to the Board's standard 2,000-acre activation limit for the zone, to an ASF sunset provision for magnet sites that would terminate authority for Sites 2, 3 and 5 if not activated within five years from the month of approval, and to an ASF sunset provision for usage-driven sites that would terminate authority for Sites 6, 7 and 8 if no foreign-status merchandise is admitted for a bona fide customs purpose within three years from the month of approval.

Dated: October 4, 2021.
Christian B. Marsh,
Acting Assistant Secretary for Enforcement and Compliance, Alternate Chairman, Foreign-Trade Zones Board.

[FR Doc. 2021-22035 Filed 10-7-21; 8:45 am]

BILLING CODE 3510-DS-P